DEPARTMENT OF ENERGY

Federal Energy Regulatory Commission

[Docket No. RM05-1-000]

Regulations Governing the Conduct of Open Seasons for Alaska Natural Gas Transportation Projects; Notice of Technical Conference

October 29, 2004.

Take notice that the Federal Energy Regulatory Commission will host a technical conference in this proceeding on December 3, 2004 in Anchorage, Alaska. As previously announced on October 26, 2004, the Commission has initiated a rulemaking to establish regulations governing the conduct of open seasons for capacity on any Alaska natural gas transportation projects. These regulations are required by section 103(e) of the Alaska Natural Gas Pipeline Act of 2004, enacted into law on October 13, 2004. The Commission must issue regulations within 120 days of enactment of the Act, that is, by February 10, 2005. The Commission will provide further public notice with details of the rulemaking proceeding, including the specific location of the technical conference in Anchorage, Alaska, in the near future. All interested parties and the public are invited to attend.

Registration for the December 3rd technical conference is not required, but it is encouraged to assist with the conference planning process. Those electing to register are asked to do so on-line by close of business, Friday, November 26, 2004 at: http://www.ferc.gov/whats-new/registration/alaska-1203-form.asp.

Transcripts of the conference will be immediately available from Ace Reporting Company (202-347-3700 or 1-800-336-6646) for a fee. They will be available for the public on the Commission's eLibrary system seven calendar days after FERC receives the transcript. For information about this proceeding, interested persons may go to the Commission's Web site, http://www.ferc.gov, and search under the docket number for this proceeding, Docket No. RM05-1. Materials for the conference will also be posted on the Commission's monthly calendar page for this event. Any questions or comments about this technical conference may be directed to: Edwin Holden, 202-502-8089, Edwin.Holden@ferc.gov or Richard Foley, 202-502-8955, Richard.Foley@ferc.gov.

Linda Mitry,
Acting Secretary.

[FR Doc. E4-3046 Filed 11-5-04; 8:45 am]

BILLING CODE 6717-01-P